DEPARTMENT OF COMMERCE

International Trade Administration

[A-588-810]

Mechanical Transfer Presses From Japan: Extension of Time Limit for Preliminary Results of Antidumping Administrative Review

AGENCY: Import Administration, International Trade Administration, Department of Commerce.

ACTION: Notice of extension of time limit For preliminary results of Administrative Review.

EFFECTIVE DATE: October 12, 2001.

FOR FURTHER INFORMATION CONTACT: Mark Hoadley, Office of AD/CVD Enforcement VII, Import Administration, International Trade Administration, U.S. Department of Commerce, 14th Street and Constitution Avenue, NW., Washington DC 20230; telephone: (202)482-0666.

The Applicable Statute

Unless otherwise indicated, all citations to the statute are references to the Tariff Act of 1930 (the Act), as amended. In addition, unless otherwise indicated, all citations to the Department's regulations are to the regulations codified at 19 CFR part 351 (2000).

Background

On February 28, 2001, the Department of Commerce (the Department) received requests from Komatsu, Ltd., Hitachi Zosen Corp. (HZC), and Hitachi Zosen Fukui Corp. (HZFC) for an administrative review of the antidumping duty order on mechanical transfer presses (MTPs) from Japan. On March 22, 2001, the Department published a notice of initiation of this administrative review covering the period of February 1, 2000 through January 31, 2001 (66 FR 16037). Because of an inadvertent omission in the March initiation notice, the review of HZFC was not initiated until May 23, 2001 (66 FR 28421).

Extension of Time Limits for Preliminary Results

Because of a number of complexities in this case, it is not practicable to complete this review within the time limits mandated by section 751(a)(3)(A) of the Act. Depending on our analysis of home market sales information provided by the respondents, our basis for determining normal value, which has in past administrative reviews been based on constructed value because of the difficulties involved in comparing MTPs, might need to be reconsidered. Even if the Department determines again not to use home market sales for calculating normal value, contemporaneous home market sales must be used for calculating constructed value profit, and, thus, in either case, we will have to determine the proper sales dates and the contemporaneity window for home market sales.

Furthermore, Komatsu has requested that the order be partially revoked, as it applies to its sales, and HZC and HZFC have not participated in recent reviews. Therefore, verification of the sales and cost information of all three respondents might need to be conducted. While HZC claims that it did not have any entries during the period of review or contemporaneous home market sales, resolution of these claims will depend on our analysis of the date-of-sale issue and the establishment of the contemporaneity window.

Therefore, in accordance with section 751(a)(3)(A) of the Act, the Department is extending the time period for issuing the preliminary results of this review by 120 days, until no later than February 28, 2002. The final results continue to be due 120 days after the publication of the preliminary results.

Dated: October 2, 2001.
Joseph A. Spetrini,
Deputy Assistant Secretary, AD/CVD Enforcement Group III.

[FR Doc. 01-25706 Filed 10-11-01; 8:45 am]

BILLING CODE 3510-DS-P